FEDERAL DEPOSIT INSURANCE CORPORATION

[OMB No. 3064-0082; -0084]

Agency Information Collection Activities: Proposed Collection Renewal; Comment Request

AGENCY: Federal Deposit Insurance Corporation (FDIC).

ACTION: Notice and request for comment.

SUMMARY: The FDIC, as part of its obligations under the Paperwork Reduction Act of 1995 (PRA), invites the general public and other Federal agencies to take this opportunity to comment on the renewal of the existing information collections described below (OMB Control No. 3064-0082; -0084).

DATES: Comments must be submitted on or before July 8, 2024.

ADDRESSES: Interested parties are invited to submit written comments to the FDIC by any of the following methods:

• Agency Website: https://www.fdic.gov/resources/regulations/federal-register-publications/.

• Email: comments@fdic.gov. Include the name and number of the collection in the subject line of the message.

• Mail: Manny Cabeza (202-898-3767), Regulatory Counsel, MB-3128, Federal Deposit Insurance Corporation, 550 17th Street NW, Washington, DC 20429.

• Hand Delivery: Comments may be hand-delivered to the guard station at the rear of the 17th Street NW building (located on F Street NW), on business days between 7:00 a.m. and 5:00 p.m.

All comments should refer to the relevant OMB control number. A copy of the comments may also be submitted to the OMB desk officer for the FDIC: Office of Information and Regulatory Affairs, Office of Management and Budget, New Executive Office Building, Washington, DC 20503.

FOR FURTHER INFORMATION CONTACT: Manny Cabeza, Regulatory Counsel, 202-898-3767, mcabeza@fdic.gov, MB-3128, Federal Deposit Insurance Corporation, 550 17th Street NW, Washington, DC 20429.

SUPPLEMENTARY INFORMATION:

Proposal to renew the following currently approved collection of information:

1. Title: Recordkeeping, Disclosure and Reporting Requirements in Connection with Regulation Z.

OMB Number: 3064-0082.

Form Number: None.

Affected Public: FDIC-Supervised Institutions.

Burden Estimate:

Table 1—Summary of Estimated Annual Implementation Burden
[OMB No. 3064-0082]
Information collection (IC) (obligation to respond) | Type of burden (frequency of response) | Number of respondents | Number of responses per respondent | Time per response (HH:MM) | Annual burden (hours)
Open-End Credit Products:
• Not Home-Secured Open-End Credit Plans
○ Credit and Charge Card Provisions
Timely Settlement of Estate Debts Written Policies and Procedures, 12 CFR 1026.11(c)(1) (Mandatory) | Recordkeeping (On Occasion) | 8 | 1 | 08:00 | 64
Ability to Pay Written Policies and Procedures, 12 CFR 1026.51(a)(ii) (Mandatory) | Recordkeeping (On Occasion) | 8 | 1 | 08:00 | 64
Mortgage Products (Open and Closed-End):
• Valuation Independence
○ Mandatory Reporting
Implementation of Policies and Procedures, 12 CFR 1026.42(g) (Mandatory) | Recordkeeping (On Occasion) | 8 | 1 | 20:00 | 160
Total Annual Implementation Burden (Hours) |  |  |  |  | 288
Source: FDIC.
Note: The estimated annual IC time burden is the product, rounded to the nearest hour, of the estimated annual number of responses and the estimated time per response for a given IC. The estimated annual number of responses is the product, rounded to the nearest whole number, of the estimated annual number of respondents and the estimated annual number of responses per respondent. This methodology ensures the estimated annual burdens in the table are consistent with the values recorded in OMB's consolidated information system.

Table 2—Summary of Estimated Annual Ongoing Burden
[OMB No. 3064-0082]
Information collection (IC) (obligation to respond) | Type of burden (frequency of response) | Number of respondents | Number of responses per respondent | Time per response (HH:MM) | Annual burden (hours)
Open-End Credit Products:
• Not Home-Secured Open-End Credit Plans
○ General Disclosure Rules for Not Home-Secured Open-End Credit Plans
1. Credit and Charge Card Applications and Solicitations, 12 CFR 1026.60 (Mandatory) | Disclosure (Annual) | 478 | 1 | 08:00 | 3,824
2. Account Opening Disclosures, 12 CFR 1026.6(b) (Mandatory) | Disclosure (Annual) | 478 | 1 | 12:00 | 5,736
3. Periodic Statements, 12 CFR 1026.7(b) (Mandatory) | Disclosure (Monthly) | 478 | 12 | 08:00 | 45,888
4. Annual Statement of Billing Rights, 12 CFR 1026.9(a)(1) (Mandatory) | Disclosure (Annual) | 478 | 1 | 08:00 | 3,824
5. Alternative Summary Statement of Billing Rights, 12 CFR 1026.9(a)(2) (Voluntary) | Disclosure (Monthly) | 478 | 12 | 08:00 | 45,888
6. Change in Terms Disclosures, 12 CFR 1026.9(b) through (h) (Mandatory) | Disclosure (Annual) | 478 | 1 | 08:00 | 3,824
○ Credit and Charge Card Provisions
7. Timely Settlement of Estate Debts, 12 CFR 1026.11(c)(2) (Mandatory) | Disclosure (On Occasion) | 478 | 61 | 00:05 | 2,430
8. Ability to Pay, 12 CFR 1026.51 (Mandatory) | Recordkeeping (Annual) | 478 | 1 | 12:00 | 5,736
9. College Student Credit Annual Report, 12 CFR 1026.57(d) (Mandatory) | Reporting (Annual) | 478 | 1 | 08:00 | 3,824
10. Submission of Credit Card Agreements, 12 CFR 1026.58(c) (Mandatory) | Reporting (Quarterly) | 478 | 4 | 03:00 | 5,736
11. Internet Posting of Credit Card Agreements, 12 CFR 1026.58(d) (Mandatory) | Disclosure (Quarterly) | 478 | 4 | 06:00 | 11,472
12. Individual Credit Card Agreements, 12 CFR 1026.58(e) (Mandatory) | Disclosure (On Occasion) | 478 | 14 | 00:15 | 1,673
• Home Equity Open-End Credit Plans (HELOC)
○ General Disclosure Rules for HELOC's
13. Application Disclosures, 12 CFR 1026.40 (Mandatory) | Disclosure (Annual) | 2,189 | 1 | 12:00 | 26,268
14. Account Opening Disclosures, 12 CFR 1026.6(a) (Mandatory) | Disclosure (Annual) | 2,189 | 1 | 12:00 | 26,268
15. Periodic Statements, 12 CFR 1026.7(a) (Mandatory) | Disclosure (Annual) | 2,189 | 1 | 08:00 | 17,512
16. Annual Statement of Billing Rights, 12 CFR 1026.9(a)(1) (Mandatory) | Disclosure (Annual) | 2,189 | 1 | 08:00 | 17,512
17. Alternative Summary Statement of Billing Rights, 12 CFR 1026.9(a)(2) (Mandatory) | Disclosure (Annual) | 2,189 | 1 | 08:00 | 17,512
18. Change in Terms Disclosures, 12 CFR 1026.9(b) through (h) (Mandatory) | Disclosure (Annual) | 2,189 | 1 | 08:00 | 17,512
19. Notice to Restrict Credit, 12 CFR 1026.9(c)(1)(iii); 1026.40(f)(3)(i) and (vi) (Mandatory) | Disclosure (Annual) | 2,189 | 1 | 02:00 | 4,378
• All Open-End Credit Plans
20. Error Resolution, 12 CFR 1026.13 (Mandatory) | Disclosure (On Occasion) | 2,265 | 937 | 00:01 | 35,372
Closed-End Credit Products:
• General Rules for Closed-End Credit
21. Other than Real Estate, Home-Secured and Private Education Loans, 12 CFR 1026.17 and 1026.18 (Mandatory) | Disclosure (Annual) | 2,551 | 1 | 12:00 | 30,612
• Closed-End Mortgages
○ Application and Consummation
22. Loan Estimate, 12 CFR 1026.19(e); and 1026.37 (Mandatory) | Disclosure (Annual) | 2,815 | 1 | 08:00 | 22,520
23. Closing Disclosure, 12 CFR 1026.19(f); and 1026.38 (Mandatory) | Disclosure (Annual) | 2,815 | 1 | 08:00 | 22,520
24. Record Retention of Disclosures, 12 CFR 1026.19(e), (f); 1026.37; and 1026.38 (Mandatory) | Recordkeeping (Annual) | 2,815 | 1 | 00:18 | 845
○ Post-Consummation Disclosures
25. Interest Rate and Payment Summary, 12 CFR 1026.18(s) (Mandatory) | Disclosure (Annual) | 2,815 | 1 | 40:00 | 112,600
26. No Guarantee to Refinance Statement, 12 CFR 1026.18(t) (Mandatory) | Disclosure (Annual) | 2,815 | 1 | 08:00 | 22,520
27. ARMs Rate Adjustments with Payment Change Disclosures, 12 CFR 1026.20(c) (Mandatory) | Disclosure (Annual) | 2,815 | 1 | 01:30 | 4,223
28. Initial Rate Adjustment Disclosure for ARMs, 12 CFR 1026.20(d) (Mandatory) | Disclosure (Annual) | 2,815 | 1 | 02:00 | 5,630
29. Escrow Cancellation Notice, 12 CFR 1026.20(e) (Mandatory) | Disclosure (Annual) | 2,815 | 1 | 08:00 | 22,520
30. Periodic Statements, 12 CFR 1026.41 (Mandatory) | Disclosure (Annual) | 2,815 | 1 | 08:00 | 22,520
○ Ability to Repay Requirements
31. Minimum Standards, 12 CFR 1026.43(c) through (f) (Mandatory) | Recordkeeping (On Occasion) | 2,815 | 1166 | 00:15 | 820,573
32. Prepayment Penalties, 12 CFR 1026.43(g) (Mandatory) | Disclosure (On Occasion) | 2,815 | 45 | 00:12 | 25,335
Mortgage Products (Open and Closed-End):
• Mortgage Servicing Disclosures
○ Payoff Statements
33. Payoff Statements, 12 CFR 1026.36(c)(3) (Mandatory) | Disclosure (Annual) | 2,829 | 1 | 08:00 | 22,632
○ Notice of Sale or Transfer
34. Notice of Sale or Transfer, 12 CFR 1026.39 (Mandatory) | Disclosure (Annual) | 2,829 | 1 | 08:00 | 22,632
• Valuation Independence
○ Mandatory Reporting
35. Reporting Appraiser Noncompliance, 12 CFR 1026.42(g) (Mandatory) | Reporting (On Occasion) | 2,829 | 1 | 00:10 | 472
Reverse and High-Cost Mortgages:
• Reverse Mortgages
○ Reverse Mortgage Disclosures
36. Reverse Mortgage Disclosures, 12 CFR 1026.31(c)(2) and 1026.33 (Mandatory) | Disclosure (Annual) | 1 | 1 | 24:00 | 24
• High-Cost Mortgage Loans
○ HOEPA Disclosures and Notice
37. HOEPA Disclosures and Notice, 12 CFR 1026.32(c) (Mandatory) | Disclosure (Annual) | 2,815 | 1 | 00:14 | 657
Private Education Loans:
• Initial Disclosures
○ Application and Solicitation Disclosures
38. Application or Solicitation Disclosures, 12 CFR 1026.47(a) (Mandatory) | Disclosure (Annual) | 2,755 | 1 | 60:00 | 165,300
○ Approval Disclosures
39. Approval Disclosures, 12 CFR 1026.47(b) (Mandatory) | Disclosure (Annual) | 2,755 | 1 | 60:00 | 165,300
○ Final Disclosures
40. Final Disclosures, 12 CFR 1026.47(c) (Mandatory) | Disclosure (Annual) | 2,755 | 1 | 60:00 | 165,300
Advertising Rules
• All Credit Types
○ Open-End Credit
41. Open-End Credit, 12 CFR 1026.16 (Mandatory) | Disclosure (Annual) | 2,265 | 1 | 00:20 | 755
○ Closed-End Credit
42. Closed-End Credit, 12 CFR 1026.24 (Mandatory) | Disclosure (Annual) | 2,856 | 1 | 00:20 | 952
Record Retention:
• Evidence of Compliance
43. Regulation Z in General, 12 CFR 1026.25 (Mandatory) | Recordkeeping (Annual) | 2,857 | 1 | 00:18 | 857
Total Annual Ongoing Burden (Hours) |  |  |  |  | 1,959,488
Source: FDIC.
Note: The estimated annual IC time burden is the product, rounded to the nearest hour, of the estimated annual number of responses and the estimated time per response for a given IC. The estimated annual number of responses is the product, rounded to the nearest whole number, of the estimated annual number of respondents and the estimated annual number of responses per respondent. This methodology ensures the estimated annual burdens in the table are consistent with the values recorded in OMB's consolidated information system.

General Description of Collection: Consumer Financial Protection Bureau (CFPB) Regulation Z—12 CFR 1026 implements the Truth in Lending Act (15 U.S.C. 1601, et seq.) and certain provisions of the Real Estate Settlement Procedures Act (12 U.S.C. 2601 et seq.). This regulation prescribes uniform methods for computing the cost of credit, the disclosure of credit terms and costs, the resolution of errors and imposes various other recordkeeping, reporting and disclosure requirements. The FDIC has enforcement authority on the requirements of the CFPB's Regulation over the financial institutions it supervises. This information collection captures the recordkeeping, reporting, and disclosure burdens of Regulation Z on FDIC-supervised institutions. To arrive at the estimated annual burden the FDIC assessed the number of potential respondents to the information collection by identifying the number of FDIC-supervised institutions who reported activity that would be within the scope of the information collection requirements according to data from the most recent Call Report. Additionally, the FDIC estimated the frequency of responses to the recordkeeping, reporting, or disclosure requirements by assessing the dollar volume of activity that would be within the scope of the information collection. In some instances, the FDIC used information provided by other sources to estimate the magnitude and scope of activity attributable to FDIC-supervised institutions when more immediate information sources did not exist.

The estimated annual burden, in hours, is the product of the estimated number of respondents per year, estimated number of responses per respondent per year, and estimated hours per response, as summarized in Table 1 for the implementation burden and in Table 2 for the ongoing burden, below. The total estimated annual burden for this Information Collection Request (ICR) is 1,959,766 hours (288 hours estimated implementation burden, plus 1,959,488 hours estimated ongoing burden), which is a decrease of 71,838 hours from the 2021 estimate. As the estimated time per response remained the same from the 2021 ICR, the change in the total estimated annual burden hours is attributable to the decrease in the estimated number of respondents in Table 2.

2. Title: Account Based Disclosures in Connection with Consumer Financial Protection Bureau Regulations E and DD and Federal Reserve Regulation CC.

OMB Number: 3064-0084.

Form Number: None.

Affected Public: FDIC-Supervised Institutions.

Burden Estimate:

Summary of Estimated Annual Burden
[OMB No. 3064-0084]
Information collection (IC) (obligation to respond) | Type of burden (frequency of response) | Number of respondents | Number of responses per respondent | Time per response (HH:MM) | Annual burden (hours)
CFPB Regulation E—12 CFR Part 1005
1. Initial Disclosures: General, 12 CFR 1005.7(b) (Mandatory) | Disclosure (On Occasion) | 2,871 | 83 | 00:01.5 | 5,957
2. Initial Disclosures: Payroll Cards, 12 CFR 1005.18(c)(1) (Mandatory) | Disclosure (On Occasion) | 6 | 5,000 | 00:01.5 | 750
3. Initial Disclosures: Change in Terms, 12 CFR 1005.8(a) (Mandatory) | Disclosure (On Occasion) | 2,871 | 113 | 00:01 | 5,407
4. Error Resolution Rules: General, 12 CFR 1005.8(b), 12 CFR 1005.11 (Mandatory) | Disclosure (On Occasion) | 2,871 | 3 | 00:30 | 4,307
5. Error Resolution Rules: Payroll Cards, 12 CFR 1005.18 (Mandatory) | Disclosure (On Occasion) | 6 | 8 | 00:30 | 24
6. Prepaid Accounts: New Products—Short Form Disclosure, 12 CFR 1005.18(b)(2), 12 CFR 1005.15(c) (Mandatory) | Disclosure (On Occasion) | 2 | 24.33 | 40:00 | 1,960
7. Prepaid Accounts: New Products—Long Form Disclosure, 12 CFR 1005.18(b)(4), 12 CFR 1005.15(c) (Mandatory) | Disclosure (On Occasion) | 2 | 24.33 | 08:00 | 392
8. Prepaid Accounts: Implementation—Short Form Additional Fee Type Disclosure, 12 CFR 1005.18(b)(2)(ix) (Mandatory) | Disclosure (On Occasion) | 1 | 1 | 04:00 | 4
9. Prepaid Accounts: Implementation—Access to Prepaid Account Information, 12 CFR 1005.18(c)(5), 12 CFR 1005.15(d) (Mandatory) | Recordkeeping (On Occasion) | 1 | 1 | 24:00 | 24
10. Prepaid Accounts: Implementation—Error Resolution, 12 CFR 1005.18(e)(2), 12 CFR 1005.11 (Mandatory) | Recordkeeping (On Occasion) | 1 | 1 | 08:00 | 8
11. Prepaid Accounts: Implementation—Submission of Agreements, 12 CFR 1005.19(b) (Mandatory) | Reporting (On Occasion) | 1 | 1 | 01:00 | 1
12. Prepaid Accounts: Ongoing—Short Form Additional Fee Type Disclosure, 12 CFR 1005.18(b)(2)(ix) (Mandatory) | Disclosure (Annual) | 15 | 1 | 00:30 | 8
13. Prepaid Accounts: Ongoing—Access to Prepaid Account Information, 12 CFR 1005.18(c)(5), 12 CFR 1005.15(d) (Mandatory) | Recordkeeping (Annual) | 15 | 1 | 00:30 | 8
14. Prepaid Accounts: Ongoing—Error Resolution, 12 CFR 1005.18(e)(2), 12 CFR 1005.11 (Mandatory) | Recordkeeping (Annual) | 15 | 1 | 00:30 | 8
15. Prepaid Accounts: Ongoing—Submission of Agreements, 12 CFR 1005.19(b) (Mandatory) | Reporting (Annual) | 15 | 1 | 00:30 | 8
16. Gift Cards/Certificates: Implementation—Exclusion Policies and Procedures, 12 CFR 1005.20(b)(2) (Mandatory) | Recordkeeping (On Occasion) | 2 | 1 | 20:00 | 40
17. Gift Cards/Certificates: Implementation—Policies & Procedures 12 CFR 1005.20(e)(1) (Mandatory) | Recordkeeping (On Occasion) | 2 | 1 | 20:00 | 40
18. Gift Cards/Certificates: Ongoing—Exclusion Policies and Procedures, 12 CFR 1005.20(b)(2) (Mandatory) | Recordkeeping (Annual) | 12 | 1 | 00:15 | 3
19. Gift Cards/Certificates: Ongoing—Policies & Procedures 12 CFR 1005.20(e)(1) (Mandatory) | Recordkeeping (Annual) | 12 | 1 | 00:15 | 3
20. Remittances: Implementation—Policies & Procedures for Error Resolution and Retention of Documentation 12 CFR 1005.33(g), 12 CFR 1005.13 (Mandatory) | Recordkeeping (On Occasion) | 1 | 1 | 08:00 | 8
21. Remittances: Ongoing—Policies & Procedures for Error Resolution and Retention of Documentation 12 CFR 1005.33(g), 12 CFR 1005.13 (Mandatory) | Recordkeeping (Annual) | 122 | 1 | 00:30 | 61
22. Remittance Transfer Disclosures 12 CFR 1005.31 (Mandatory) | Disclosure (Monthly) | 122 | 12 | 08:00 | 11,712
23. Error Resolution for Remittance Transfers 12 CFR 1005.33 (Mandatory) | Disclosure (Monthly) | 122 | 12 | 04:30 | 6,588
24. Remittance Transfers Scheduled before date of transfer 12 CFR 1005.36 (Mandatory) | Disclosure (Annual) | 122 | 1 | 08:00 | 976
CFPB Regulation DD—12 CFR Part 1030
25. Account disclosures (Upon Request and New Accounts), 12 CFR 1030.4 (Mandatory) | Disclosure (On Occasion) | 2,871 | 170 | 00:01.5 | 12,202
26. Change in Terms, 12 CFR 1030.5 (Mandatory) | Disclosure (On Occasion) | 2,871 | 380 | 00:01 | 18,183
27. Prematurity (renewal) Notices to Consumers, 12 CFR 1030.5 (Mandatory) | Disclosure (On Occasion) | 2,871 | 340 | 00:01 | 16,269
28. Disclosures on Periodic Statements, 12 CFR 1030.6 (Mandatory) | Disclosure (Monthly) | 2,871 | 12 | 04:00 | 137,808
29. Advertising, 12 CFR 1030.8 (Mandatory) | Disclosure (Monthly) | 2,871 | 12 | 00:30 | 17,226
Federal Reserve Board Regulation CC—12 CFR Part 229
30. Specific Availability Policy Disclosure (Initial Notice, Upon Request, Upon Change in Policy), 12 CFR 229.16, 12 CFR 229.17, 12 CFR 229.18(d) (Mandatory) | Disclosure (On Occasion) | 2,936 | 140 | 00:01 | 6,851
31. Case-by-case Hold Notice to Consumers, 12 CFR 229.16(c) (Mandatory) | Disclosure (On Occasion) | 2,936 | 717 | 00:03 | 105,256
32. Notice of Exceptions to Hold Policy, (12 CFR 229.13(g)) (Mandatory) | Disclosure (On Occasion) | 2,936 | 247 | 00:03 | 36,260
33. Notice posted where consumers make deposits (Incl. ATMs), 12 CFR 229.18(b), 12 CFR 229.18(c) (Mandatory) | Disclosure (On Occasion) | 2,936 | 1 | 00:15 | 734
34. Notice to consumers of changes in policy, 12 CFR 229.18(e) (Mandatory) | Disclosure (On Occasion) | 2,936 | 170 | 00:01 | 8,319
35. Annual notice of new ATMs, 12 CFR 229.18(e) (Mandatory) | Disclosure (Annual) | 2,936 | 1 | 05:00 | 14,680
36. Notice of nonpayment—notice to depository bank, 12 CFR 229.33(a) and 12 CFR 229.33(d) (Mandatory) | Disclosure (On Occasion) | 2,936 | 2211 | 00:01 | 108,192
37. Response to consumer's recredit claim (validation, denial, reversal), 12 CFR 229.54(e) (Mandatory) | Disclosure (On Occasion) | 2,936 | 12 | 00:15 | 8,808
38. Bank's claim against an indemnifying bank, 12 CFR 229.55 (Mandatory) | Reporting (On Occasion) | 2,936 | 5 | 00:15 | 3,670
39. Consumer awareness disclosure, 12 CFR 229.57 (Mandatory) | Disclosure (On Occasion) | 2,936 | 170 | 00:01 | 8,319
40. Reg CC Consumer Burden—Expedited recredit claim notice, 12 CFR 229.54(a) and 12 CFR 229.54(b)(2) (Mandatory) | Reporting (On Occasion) | 2,936 | 8 | 00:15 | 5,872
Total Annual Burden (Hours): |  |  |  |  | 546,946
Source: FDIC.
Note: The estimated annual IC time burden is the product, rounded to the nearest hour, of the estimated annual number of responses and the estimated time per response for a given IC. The estimated annual number of responses is the product, rounded to the nearest whole number, of the estimated annual number of respondents and the estimated annual number of responses per respondent. This methodology ensures the estimated annual burdens in the table are consistent with the values recorded in OMB's consolidated information system.

General Description of Collection: Regulations E & DD (Consumer Financial Protection Bureau's Regulations) and Regulation CC (the Federal Reserve's Regulation) ensure adequate disclosures regarding accounts, including electronic fund transfer services, availability of funds, and fees and annual percentage yield for deposit accounts. Generally, the Regulation E disclosures are designed to ensure consumers receive adequate disclosure of basic terms, costs, and rights relating to electronic fund transfer (EFT) services provided to them so that they can make informed decisions. Institutions offering EFT services must disclose to consumers certain information, including: Initial and updated EFT terms, transaction information, the consumer's potential liability for unauthorized transfers, and error resolution rights and procedures. Like Regulation E, Regulation CC contains consumer protection disclosure requirements. Specifically, Regulation CC requires depository institutions to make funds deposited in transaction accounts available within specified time periods, disclose their availability policies to customers, and begin accruing interest on such deposits promptly. The disclosures are intended to alert customers that their ability to use deposited funds may be delayed, prevent unintentional (and costly) overdrafts, and allow customers to compare the policies of different institutions before deciding at which institution to deposit funds. Depository institutions must also provide an awareness disclosure regarding substitute checks. The regulation also requires notice to the depositary bank and to a customer of nonpayment of a check. Regulation DD also has similar consumer protection disclosure requirements that are intended to assist consumers in comparing deposit accounts offered by institutions, principally through the disclosure of fees, the annual percentage yield, and other account terms. Regulation DD requires depository institutions to disclose yields, fees, and other terms concerning deposit accounts to consumers at account opening, upon request, and when changes in terms occur.

Depository institutions that provide periodic statements are required to include information about fees imposed, interest earned, and the annual percentage yield (APY) earned during those statement periods. It also contains rules about advertising deposit accounts. This Information Collection Request (ICR) is being revised as a result of the addition of five (5) new information collection requirements contained in CFPB's Regulation E, Subpart B. The estimated annual burden, in hours, is the product of the estimated number of respondents per year, estimated number of responses per respondent per year, and estimated hours per response, as summarized in the Table above. The total estimated annual burden for this ICR is 546,946 hours, which is a decrease of 45,875 hours from our estimate in the 2021 memo (592,821 hours). This decrease can be explained largely by a decline in the number of FDIC-supervised IDIs from December 31, 2020 (the period used in the previous OMB renewal) to December 31, 2023. This decrease is attenuated by the inclusion of five ICs pertaining to recordkeeping and disclosure requirements associated with remittance transfers in Subpart B of CFPB Regulation E.

The estimated annual burden and change in burden, broken down by each Regulation (E, DD, and CC), is as follows:

Regulation | 2021 Total annual burden (hours) | 2024 Total annual burden (hours) | Change (hours)
CFPB Regulation E | 28,950 | 38,297 | + 9,347
CFPB Regulation DD | 223,594 | 201,688 | −21,906
FRB Regulation CC | 340,277 | 306,961 | −33,316
Total Annual Burden | 592,821 | 546,946 | −45,875

Request for Comment

Comments are invited on: (a) Whether the collections of information are necessary for the proper performance of the FDIC's functions, including whether the information has practical utility; (b) the accuracy of the estimates of the burden of the information collections, including the validity of the methodology and assumptions used; (c) ways to enhance the quality, utility, and clarity of the information to be collected; and (d) ways to minimize the burden of the collections of information on respondents, including through the use of automated collection techniques or other forms of information technology. All comments will become a matter of public record.

Federal Deposit Insurance Corporation.
Dated at Washington, DC, on May 1, 2024.
James P. Sheesley,
Assistant Executive Secretary.

[FR Doc. 2024-09856 Filed 5-6-24; 8:45 am]

BILLING CODE 6714-01-P